DEPARTMENT OF ENERGY

Environmental Management Site-Specific Advisory Board, Savannah River Site

AGENCY: Office of Environmental Management, Department of Energy.

ACTION: Notice of open meeting.

SUMMARY: This notice announces a meeting of the Environmental Management Site-Specific Advisory Board (EM SSAB), Savannah River Site. The Federal Advisory Committee Act requires that public notice of this meeting be announced in the Federal Register.

DATES: Monday, November 14, 2022, 1:00 p.m.-3:45 p.m.

Tuesday, November 15, 2022, 9:00 a.m.-3:30 p.m.

ADDRESSES: Augusta University, Summerville Campus, Student Activity Center Ballroom, 2500 Walton Way, Augusta, GA 30904.

The meeting will also be streamed on YouTube, no registration is necessary; links for the livestream can be found on the following website: https://cab.srs.gov/srs-cab.html.

Attendees should check the website listed above for any meeting format changes due to COVID-19 protocols.

FOR FURTHER INFORMATION CONTACT: Amy Boyette, Office of External Affairs, U.S. Department of Energy (DOE), Savannah River Operations Office, P.O. Box A, Aiken, SC, 29802; Phone: (803) 952-6120; or Email: amy.boyette@srs.gov.

SUPPLEMENTARY INFORMATION: Purpose of the Board: The purpose of the Board is to make recommendations to DOE-EM and site management in the areas of environmental restoration, waste management, and related activities.

Tentative Agenda

Monday, November 14, 2022

Chair Update

Agency Updates

Subcommittee Updates

Program Presentation

Public Comments

Tuesday, November 15, 2022

Program Presentations

Public Comments

Board Business, Voting

Public Participation: The meeting is open to the public. It will be held strictly following COVID-19 precautionary measures. To provide a safe meeting environment, seating may be limited; attendees should register for in-person attendance by sending an email to srscitizensadvisoryboard@srs.gov no later than 4:00 p.m. ET on Thursday, November 10, 2022. The EM SSAB, Savannah River Site, welcomes the attendance of the public at its advisory committee meetings and will make every effort to accommodate persons with physical disabilities or special needs. If you require special accommodations due to a disability, please contact Amy Boyette at least seven days in advance of the meeting at the telephone number listed above. Written statements may be filed with the Board via email either before or after the meeting. Individuals who wish to make oral statements pertaining to agenda items should submit their request to srscitizensadvisoryboard@srs.gov. Requests must be received five days prior to the meeting and reasonable provision will be made to include the presentation in the agenda. Comments will be accepted after the meeting, by no later than 4:00 p.m. ET on Monday, November 21, 2022. Please submit comments to srscitizensadvisoryboard@srs.gov. The Deputy Designated Federal Officer is empowered to conduct the meeting in a fashion that will facilitate the orderly conduct of business. Individuals wishing to make oral public comments will be provided a maximum of five minutes to present their comments. Individuals wishing to submit written public comments should email them as directed above.

Minutes: Minutes will be available by emailing or calling Amy Boyette at the email address or telephone number listed above. Minutes will also be available at the following website: https://cab.srs.gov/srs-cab.html.

Signing Authority

This document of the Department of Energy was signed on October 14, 2022, by Shena Kennerly, Acting Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 14, 2022.
Treena V. Garrett,
Federal Register Liaison Officer, U.S. Department of Energy.

[FR Doc. 2022-22740 Filed 10-19-22; 8:45 am]

BILLING CODE 6450-01-P